FEDERAL TRADE COMMISSION

Agency Information Collection Activities; Submission for OMB Review; Comment Request

AGENCY: Federal Trade Commission (FTC).

ACTION: Notice and request for comment.

SUMMARY: The FTC requests that the Office of Management and Budget (OMB) extend for three years the current PRA clearance for information collection requirements contained in the agency's Mail, internet, or Telephone Order Merchandise Rule (MITOR or Rule). The existing clearance expires on May 31, 2019. The public should address comments to this notice to the OMB.

DATES: Comments must be received by June 27, 2019.

ADDRESSES: Comments in response to this notice should be submitted to the OMB Desk Officer for the Federal Trade Commission within 30 days of this notice. You may submit comments using any of the following methods:

Electronic: Write “MITOR: PRA Comment, P072108,” on your comment and file your comment online at https://www.regulations.gov, by following the instructions on the web-based form.

Email: Wendy_L._Liberante@omb.eop.gov and Susan_M._Minson@omb.eop.gov.

Fax: (202) 395-5806.

Mail: Office of Information and Regulatory Affairs, Office of Management and Budget, Attention: Desk Officer for the Federal Trade Commission, New Executive Office Building, Docket Library, Room 10102, 725 17th Street NW, Washington, DC 20503.

FOR FURTHER INFORMATION CONTACT: Jock Chung, 202-326-2984, Attorney, Enforcement Division, Bureau of Consumer Protection, 600 Pennsylvania Avenue NW, Mail Drop CC-9528, Washington, DC 20580.

SUPPLEMENTARY INFORMATION:

Title: Mail, internet, or Telephone Order Merchandise Rule (MITOR or Rule), 16 CFR part 435.

OMB Control Number: 3084-0106.

Type of Review: Extension of a currently approved collection.

Abstract: Generally, the MITOR requires a seller (or merchant) to: (1) Have a reasonable basis for any express or implied shipment representation made in soliciting the sale (if no express time period is promised, the implied shipment representation is 30 days); (2) notify the buyer (or consumer) and obtain the buyer's consent to any delay in shipment; and (3) make prompt and full refunds when the buyer exercises a cancellation option or the seller is unable to meet the Rule's other requirements.

On March 19, 2019, the FTC sought comment on the information collection requirements associated with the Rule. 84 FR 10072. The FTC received no comments during the public comment period. Pursuant to OMB regulations, 5 CFR part 1320, that implement the PRA, 44 U.S.C. 3501 et seq., the FTC is providing this second opportunity for public comment while seeking OMB approval to renew the pre-existing clearance for the Rule. For more details about the Rule requirements and the basis for the calculations summarized below, see 84 FR 10072.

Likely Respondents: Businesses engaged in the sale of merchandise by mail, internet or telephone.

Estimated Annual Hours Burden: 2,692,350 hours.

Third Party Disclosure: [(44,946 established businesses × 50 hours) + (1,935 new entrants × 230 hours) = 2,692,350 hours.

Estimated Annual Cost Burden: $66,501,045, which is derived from 2,692,350 hours × $24.70/hour.¹

¹ The hourly wage rates for sales and related workers are updated from the 60-Day Federal Register notice and are based on mean hourly wages found at https://www.bls.gov/news.release/ocwage.htm (“Occupational Employment and Wages-May 2018,” U.S. Department of Labor, released March 2019, Table 1 (“National employment and wage data from the Occupational Employment Statistics survey by occupation, May 2018”).

Request for Comment

Your comment—including your name and your state—will be placed on the public record of this proceeding at the https://www.regulations.gov website. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Heather Hippsley,
Deputy General Counsel.

[FR Doc. 2019-10994 Filed 5-24-19; 8:45 am]

BILLING CODE 6750-01-P